DEPARTMENT OF AGRICULTURE

Natural Resources Conservation Service

Notice of Proposed Changes in the National Handbook of Conservation Practices

AGENCY: Natural Resources Conservation Service, USDA.

ACTION: Notice and request for comments.

SUMMARY: Notice is hereby given of the intention of the Natural Resources Conservation Service (NRCS) to issue a series of new or revised conservation practice standards in its National Handbook of Conservation Practices. These standards include Heavy Use Area Protection; Irrigation System, Tailwater Recovery; Pest Management; Pipeline; and Watering Facility. These standards are used to convey national guidance when developing Field Office Technical Guide Standards used in the States. NRCS State conservationists who choose to adopt these practices for use within their States will incorporate them into Section IV of their Field Office Technical Guide. These practices may be used in conservation systems that treat highly erodible land or on land determined to be wetland.

DATES: Comments will be received for a 60-day period commencing with the date of publication. This series of new or revised conservation practice standards will be adopted after the close of the 60-day period.

FOR FURTHER INFORMATION CONTACT: Single copies of these standards are available from NRCS-CED in Washington, DC. Submit individual inquiries and return any comments in writing to William Hughey, National Agricultural Engineer, Natural Resources Conservation Service, Post Office Box 2890, Room 6139-S, Washington, DC 20013-2890. Telephone Number 202-720-5023. The standards are also available and can be downloaded from the Internet at: http://www.ftw.nrcs.usda.gov/practice_stds.html.

SUPPLEMENTARY INFORMATION: Section 343 of the Federal Agriculture Improvement and Reform Act of 1996 requires NRCS to make available for public review and comment proposed revisions to conservation practice standards used to carry out the highly erodible land and wetland provisions of the law. For the next 60 days, NRCS will receive comments relative to the proposed changes. Following that period, a determination will be made by NRCS regarding disposition of those comments, and a final determination of change will be made.

Signed at Washington, D.C., on March 31, 2000.
Pearlie S. Reed,
Chief, Natural Resources Conservation Service.

[FR Doc. 00-8974 Filed 4-10-00; 8:45 am]

BILLING CODE 3410-16-P